DEPARTMENT OF ENERGY

Office of Fossil Energy; Order Vacating Authorizations

AGENCY: Office of Fossil Energy (FE), Department of Energy (DOE).

ACTION: Notice of vacating orders.

SUMMARY: DOE is vacating unused natural gas import and export authorizations.

FOR FURTHER INFORMATION CONTACT: Larine Moore, Allyson C. Reilly, Office of Natural Gas Regulatory Activities, Office of Oil and Gas Global Security and Supply, P.O. Box 44375, Washington, DC 20026-4375. (202) 586-9478. (202) 586-9394.

SUPPLEMENTARY INFORMATION: DOE's FE is delegated the authority to regulate natural gas import and export under section 3 of the Natural Gas Act of 1938, 15 U.S.C. 717b. Persons seeking to import or export natural gas are required to file with FE an application containing basic information about the scope and nature of a proposed import or export. Most applications are approved automatically and the orders granting approval require those authorized to report import and export activity on a periodic basis. The data collected is used to monitor the North American natural gas trade and facilitate market analysis.

Over the years many two-year, blanket authorizations have been issued with no start date and terms to be triggered by reporting activity. There has been no reported activity for some of these outstanding authorizations, and more often than not FE attempts to contact authorization holders have been unsuccessful. FE is vacating these authorizations in order to remove unused authorizations from the FE database and improve information collection and trade monitoring.

Order

In accordance with DOE policy and pursuant to section 3 of the Natural Gas Act, it is ordered that the authorizations listed in the attached Appendix are vacated effective the date of the issuance of this notice.

Issued in Washington, DC, August 5, 2005.
R.F. Corbin,
Manager, Natural Gas Regulatory Activities, Office of Oil and Gas Global Security and Supply, Office of Fossil Energy.

Appendix—Authorizations To Be Vacated

Docket No. | Order No. | Importer/exporter | Date issued
85-28-NG | 101 | Citizens Energy Corp. & Citizens Resources Corp | 14-Jan-86
86-2-NG | 115 | Carson Water Company | 25-Mar-86
86-15-NG | 121 | 282126 Alberta Inc | 15-May-86
86-15-NG | 121-A | 282126 Alberta Inc | 13-May-87
86-15-NG | 121-B | 282126 Alberta Inc | 06-May-88
86-17-NG | 120 | Community Gas Acquisition, Inc | 15-May-86
86-30-NG | 134 | ANR-TransCanada Energy Company | 03-Jul-86
86-49-NG | 150 | Cepex, Inc | 30-Oct-86
86-59-NG | 162 | Forest Marketing Corporation | 30-Jan-87
87-1-NG | 175 | Quintana Minerals Corporation | 01-Jun-87
87-5-NG | 170 | Eastex Canadian, Inc | 30-Apr-87
87-9-NG | 173 | Tex-ana Gas Company | 15-May-87
87-18-NG | 183 | Portage Energy Inc | 21-Jul-87
87-18-NG | 183-A | Portage Energy Inc | 16-Feb-93
87-45-NG | 215 | Continental Natural Gas, Inc | 15-Jan-88
87-62-NG | 221 | JDS Energy Corporation | 28-Jan-88
87-65-NG | 226 | MG Natural Gas Corporation | 24-Feb-88
87-70-NG | 230 | Dynasty Gas Marketing, Inc | 08-Mar-88
88-10-NG | 242 | Woodward Marketing, L.L.C. | 02-Jun-88
88-10-NG | 242-A | Woodward Marketing, L.L.C. | 13-Aug-96
88-11-NG | 262 | Northeast Gas, Inc | 04-Aug-88
88-13-NG | 257 | Pentex Petroleum, Inc | 26-Jul-88
88-17-NG | 253 | National Energy Systems, Inc | 11-Jul-88
88-18-NG | 247 | Reliance Gas Marketing Company | 22-Jun-88
88-60-NG | 291 | Gas Masters, Inc | 30-Dec-88
89-6-NG | 313 | Gas Masters, Inc | 28-Apr-89
89-35-NG | 328 | Potomac Energy Corporation | 24-Aug-89
94-45-NG | 955 | Southwest Gas Corporation | 08-Jun-94
01-31-NG | 1695 | Coral Canada U.S. Inc | 19-Jun-01

[FR Doc. 05-16556 Filed 8-19-05; 8:45 am]

BILLING CODE 6450-01-P